Proclamation 10213 of May 14, 2021

World Trade Week, 2021

By the President of the United States of America

A Proclamation

When the COVID-19 pandemic struck, it not only inflicted an enormous toll on American lives and livelihoods—it brought unprecedented disruption to the global economy as well. That disruption represents a major threat to workers and employers in every community who rely on trade to grow jobs here at home, from small businesses that sell their goods to customers overseas, to major United States industries that depend on imported components in the products they make in America. As we work to defeat the pandemic and build back better, World Trade Week reminds us of the important role that global trade plays in creating jobs and strengthening the United States economy—and of our responsibility to pursue trade policies that center on American workers.

The United States can out-compete any country in the world. We have all the skills and strengths that we need to win the competition for the future, including a fiercely innovative and productive workforce. And if we make the smart investments to hone our competitive edge, no nation will be able to match us. That is why my Administration is not only focused on creating millions of good-paying jobs here at home, and supporting America's working families, we are committed to making the single biggest investment in American innovation and competitiveness since World War II. Through the American Jobs Plan and the American Families Plan, we will be taking on four major challenges to fortify our foundation: strengthening our industrial and innovation base to ensure that the future is made in America; investing in sustainable infrastructure and laying the foundation for a clean energy future; investing in our caring economy to ease the burden of care on working families; and advancing racial equity across the board to ensure that Americans in every community see the benefits of a revitalized economy and United States leadership on the world economic stage.

To support those efforts, we are committed to strengthening existing trade policies—and developing new ones aimed toward promoting equitable growth, protecting workers' rights, and advancing environmental justice. We are also holding our trade partners accountable and ensuring that they do not gain competitive advantages by violating workers' rights or engaging in unfair trade practices.

Enforcing our Nation's trade rules and ensuring a level playing field is critical to making trade work for American workers and businesses. The United States is working bilaterally and multilaterally with our partners to develop standards that support workers, reduce export barriers, and hold accountable those who abuse and exploit the global trading system. We are working with international organizations to implement reforms and address current challenges, including economic, racial, and social inequities, as well as the climate crisis.

If we invest in America, and if we make sure that the United States and our partners write the rules of the road when it comes to global trade, then American factory workers, retail workers, farmers, ranchers, and fishers in every community will have a better chance to earn their place in the middle class and live lives of greater opportunity. We will be more competitive around the world—and stronger, more prosperous, and more resilient here at home.

NOW, THEREFORE, I, JOSEPH R. BIDEN JR., President of the United States of America, by virtue of the authority vested in me by the Constitution and the laws of the United States, do hereby proclaim May 16 through May 22, 2021, as World Trade Week. I call upon all Americans to observe this week and to celebrate with appropriate programs, ceremonies, and activities.

IN WITNESS WHEREOF, I have hereunto set my hand this fourteenth day of May, in the year of our Lord two thousand twenty-one, and of the Independence of the United States of America the two hundred and forty-fifth.

[FR Doc. 2021-10690

Filed 5-18-21; 8:45 am]

Billing code 3295-F1-P